DEPARTMENT OF JUSTICE

Drug Enforcement Administration

Manufacturer of Controlled Substances; Notice of Application

Pursuant to § 1301.33(a) of Title 21 of the Code of Federal Regulations (CFR), this is notice that on January 22, 2003, Cedarburg Pharmaceuticals, LLC, 870 Badger Circle, Grafton, Wisconsin 53204, made application by letter to the Drug Enforcement Administration (DEA) for registration as a bulk manufacturer of dihydromorphine (9145), a basic class of controlled substance listed in Schedule I.

The firm plans to use this substance in the conversion processes to produce Schedule II hydromorphone.

Any other such applicant and any person who is presently registered with DEA to manufacture such substance may file comments or objections to the issuance of the proposed registration.

Any such comments or objections may be addressed, in quintuplicate, to the Deputy Assistant Administrator, Office of Diversion Control, Drug Enforcement Administration, United States Department of Justice, Washington, DC 20537, Attention: Drug Operations Section, Domestic Drug Unit (ODOD) and must be filed no later than June 2, 2003.

Dated: March 14, 2003.
Laura M. Nagel,
Deputy Assistant Administrator, Office of Diversion Control, Drug Enforcement Administration.

[FR Doc. 03-7824 Filed 4-1-03; 8:45 am]

BILLING CODE 4410-09-M